DEPARTMENT OF HEALTH AND HUMAN SERVICES

National Institutes of Health

National Institute of Mental Health; Amended Notice of Meeting

Notice is hereby given of a change in the meeting of the Mental Health Services Research Committee, October 30, 2018, 8:00 a.m. to October 30, 2018, 5:00 p.m., Hotel Palomar, 2121 P Street NW., Washington, DC, 20036 which was published in the Federal Register on September 1, 2017, 82FR41631.

This meeting is being amended to correct the meeting date from October 30, 2018 to October 30, 2017. The meeting is closed to the public.

Dated: September 13, 2017.
Melanie J. Pantoja,
Program Analyst, Office of Federal Advisory Committee Policy.

[FR Doc. 2017-19862 Filed 9-18-17; 8:45 am]

BILLING CODE 4140-01-P